DEPARTMENT OF LABOR

Employment and Training Administration

[NAFTA-6185 and NAFTA-6185A]

Pillowtex Corporation, Columbus, Georgia; Pillowtex Corporation, Phenix City Facility Finishing and Weave and Columbus Towel Greige, Phenix City, AL; Notice of Termination of Investigation

Pursuant to Title V of the North American Free Trade Agreement Implementation Act and in accordance with Section 250(a), Subchapter D, Chapter 2, Title II of the Trade Act of 1974, as amended (19 U.S.C. 2331), an investigation was initiated on May 10, 2002, in response to a worker petition filed by a company official on behalf of workers at Pillowtex Corporation, located in twin plants at Columbus, Georgia and Phenix, Alabama. The workers produced bath products, primarily terrycloth bath towels, hand towels, and washcloths.

An investigation revealed that the subject firm's workers are already subject to recently issued negative NAFTA determinations.

Workers at Pillowtex Corporation, Phenix City Finishing and Weave, and Columbus Towel Greige, Phenix City, Alabama, were denied eligibility to apply for NAFTA Transitional Adjustment on July 3, 2002 (NAFTA-6219). Workers in the same worker group were certified eligible for Trade Adjustment assistance on October 31, 2002 (TA-W-41,512)

Workers at Pillowtex Corporation, Fieldcrest Cannon—Eagle & Phenix, Columbus, Georgia, were denied eligibility to apply for NAFTA Transitional Adjustment on August 14, 2001 (NAFTA-4948C). Workers in the same worker group were certified eligible for Trade Adjustment assistance on November 13, 2001 (TA-W-39,416C).

No new information or change in circumstances is evident which would result in a reversal of the Department's previous NAFTA determinations. Consequently, further investigation would serve no purpose, and the investigation has been terminated.

Signed at Washington, DC, this 14th day of November 2002.
Richard Church,
Certifying Officer, Division of Trade Adjustment Assistance.

[FR Doc. 02-30172 Filed 11-27-02; 8:45 am]

BILLING CODE 4510-30-P